DEPARTMENT OF DEFENSE

Department of the Army, Corps of Engineers

National Wetland Plant List

AGENCY: Army Corps of Engineers, DoD.

ACTION: Notice.

SUMMARY: The U.S. Army Corps of Engineers (USACE), as part of an interagency effort with the U.S. Environmental Protection Agency (EPA), the U.S. Fish and Wildlife Service (FWS) and the U.S. Department of Agriculture Natural Resources Conservation Service (NRCS), is announcing the availability of the final 2022 National Wetland Plant List (NWPL). The NWPL provides plant species wetland indicator status ratings, which are used in determining whether the hydrophytic vegetation factor is met when conducting wetland delineations under the Clean Water Act and wetland determinations under the Wetland Conservation Provisions of the Food Security Act. Other applications of the NWPL include wetland restoration, establishment, and enhancement projects.

DATES: The 2022 NWPL will become effective on February 13, 2024.

ADDRESSES: U.S. Army Corps of Engineers, Attn: CECW-CO-R, 441 G Street NW, Washington, DC 20314-1000.

FOR FURTHER INFORMATION CONTACT: Brianne McGuffie, Headquarters, U.S. Army Corps of Engineers, Operations and Regulatory Community of Practice, Washington, DC 20314-1000, by phone at 202-761-4750 or by email at brianne.e.mcguffie@usace.army.mil.

SUPPLEMENTARY INFORMATION:

Background

The U.S. Army Corps of Engineers (USACE) administers the National Wetland Plant List (NWPL) for the United States (U.S.) and its territories. Responsibility for the NWPL was transferred to the USACE from the U.S. Fish and Wildlife Service (FWS) in 2006. The NWPL has undergone several revisions since its inception in 1988. Additions or deletions to the NWPL represent new records, range extensions, nomenclatural and taxonomic changes, and newly proposed species. The latest review process began in 2022 and included review by Regional Panels (RPs), the National Panel (NP), and the public, who provided input on proposed wetland rating changes for two species submitted by the public. Both of the species were submitted for a rating change request in the Arid West region. The proposed indicator changes were announced in a Federal Register Notice, 88 FR 3729, January 20, 2023, with the comment period ending on March 21, 2023. One comment was received during that time.

Wetland Indicator Status Ratings

On the NWPL, five categories of wetland indicator status ratings are used to indicate a plant's likelihood for occurrence in wetlands versus non-wetlands: Obligate Wetland (OBL), Facultative Wetland (FACW), Facultative (FAC), Facultative Upland (FACU), and Upland (UPL). These rating categories are defined by the NP as follows: OBL—almost always occur in wetlands; FACW—usually occur in wetlands, but may occur in non-wetlands; FAC—occur in wetlands and non-wetlands; FACU—usually occur in non-wetlands, but may occur in wetlands; and UPL—almost always occur in non-wetlands. These category definitions are qualitative descriptions that better reflect the qualitative supporting information, rather than numeric frequency ranges. The percentage frequency categories used in the older definitions are only used for testing problematic or contested species being recommended for indicator status changes. Plus and minus designations and wetland indicator designations such as No Indicator (NI), No Occurrence (NO), and No Agreement (NA) were removed in 2012 and are no longer used on the NWPL. More information on the specifics of how to use these ratings is available on the NWPL website at https://wetland-plants.sec.usace.army.mil/.

The NWPL is utilized in conducting wetland delineations under the authority of Section 404 of the Clean Water Act (33 U.S.C. 1344) and Section 10 of the Rivers and Harbors Act of 1899 (33 U.S.C. 401 et seq.) and wetland determinations under the authority of the Food Security Act of 1985 (16 U.S.C. 3801 et seq.). For the purposes of determining how often a species occurs in wetlands, wetlands are defined as either (1) those areas that are inundated or saturated by surface or ground water at a frequency and duration sufficient to support, and that under normal circumstances do support, a prevalence of vegetation typically adapted for life in saturated soil conditions (33 CFR 328.3) or (2) “except when such term is part of the term `converted wetland,' means land that has a predominance of hydric soils; is inundated or saturated by surface or groundwater at a frequency and duration sufficient to support a prevalence of hydrophytic vegetation typically adapted for life in saturated soil conditions; and under normal circumstances does support a prevalence of such vegetation.” (16 U.S.C. 3801(a)(27) and 7 CFR 12.2). Wetlands are identified using the three-factor approach. Because each species being evaluated occurs as part of a vegetation assemblage, examining the other species present in relation to their assigned wetland fidelity may be useful in assessing hydrophytic vegetation.

Discussion of Public Comments

For the 2022 NWPL update, the NWPL NP and Arid West RP reviewed proposed wetland rating changes for two species submitted by the public. Both species were submitted for a rating change request in the Arid West region. As noted in the Federal Register Notice, 88 FR 3729, January 20, 2023, the 2022 NWPL update will include a nomenclature change for Populus fremontii in accordance with the Memorandum of Agreement signed in 2017 (2017 MOA).¹ Because the nomenclature change is required by the 2017 MOA, the USACE requested public input on the proposed rating change for Populus fremontii only and not the nomenclature change itself. Submitted information was reviewed by the NP and the Arid West RP, and proposed 2022 ratings for these species were determined. Along with soliciting information on the species being evaluated, we also solicited comments on the overall NWPL process, in particular whether the NWPL update cycle should remain the present two years or be changed to a three-year update cycle. This information was detailed in the Federal Register Notice, 88 FR 3729, January 20, 2023, and the information on the proposed wetland rating changes is summarized in the table below.

¹ U.S. Army Corps of Engineers, the U.S. Environmental Protection Agency, the U.S. Fish & Wildlife Service and the Natural Resources Conservation Service. (2017). Memorandum of Agreement Among the U.S. Army Corps of Engineers, the U.S. Environmental Protection Agency, the U.S. Fish & Wildlife Service and the Natural Resources Conservation Service for the Purpose of Updating and Maintaining the National Wetland Plant List.

Species Reviewed for NWPL 2022 Update
Species | Region | Current 2020 NWPL rating | Proposed 2022 NWPL rating | Final 2022 NWPL rating
Isocoma menziesii | AW | FAC | FACU | FACU.
Populus fremontii | AW | FAC | FACW | FACW.

In response to the initial Federal Register notice, the USACE received only one comment which addressed the two- versus three-year NWPL update cycle. This comment was in favor of retaining the two-year update cycle. Based on this comment, this broader review, and other factors including the 2017 MOA, the existing two-year update cycle for the NWPL will be retained.

The public may provide input to be considered as part of future NWPL updates by utilizing the following procedures. A change in indicator status or addition of a currently unlisted species may be requested at any time at https://wetland-plants.sec.usace.army.mil/ by clicking on the “Submit a NWPL Change Request” link and submitting the appropriate data. Appropriate data includes ecological data, literature reviews, frequency and abundance data, testing descriptions, and geographic data for the taxon in wetlands and non-wetlands in the USACE wetland region or subregion for which the change is proposed.

In accordance with the Memorandum of Agreement signed in 2006 (2006 MOA),² the USACE, endorsed by the EPA, FWS and NRCS, is publishing final wetland indicator statuses for the 2022 NWPL. The final NWPL is available at https://wetland-plants.sec.usace.army.mil/. State, regional, and national lists can also be downloaded from this site. The list will be used in any wetland delineations performed after the effective date. Delineations completed prior to the effective date may still use the 2020 NWPL. Completed wetland delineation/determination forms should reference the version of the NWPL used to complete the form. This completes the review of the NWPL. All comments received have been evaluated and final indicator statuses have been set.

² U.S. Army Corps of Engineers, the U.S. Environmental Protection Agency, the U.S. Fish & Wildlife Service and the Natural Resources Conservation Service. (December 12, 2006). Memorandum of Agreement Among the U.S. Army Corps of Engineers, the U.S. Environmental Protection Agency, the U.S. Fish & Wildlife Service and the Natural Resources Conservation Service for the Purpose of Transferring Responsibility for Updating and Maintaining the National List of Vascular Plant Species that Occur in Wetlands.

Detailed information on the update process, protocol, and technical issues can be found in the following documents (available on the NWPL Publications web page):

• Lichvar, Robert W. and Paul Minkin. Concepts and Procedures for Updating the National Wetland Plant List. Sept 2008. ERDC/CRREL TN-08-3. Hanover, NH: U.S. Army Engineer Research and Development Center, Cold Regions Research and Engineering Laboratory.

• Lichvar, Robert W. and Jennifer J. Gillrich. Final Protocol for Assigning Wetland Indicator Status Ratings during National Wetland Plant List Update. Sept 2011. ERDC/CRREL TN-11-1. Hanover, NH: U.S. Army Engineer Research and Development Center, Cold Regions Research and Engineering Laboratory.

Additional cited literature:

Lichvar R.W., N.C. Melvin, M.L. Butterwick, and W.N. Kirchner. 2012. National Wetland Plant List Indicator Rating Definitions. ERDC/CRREL TN-12-1. Hanover, NH: U.S. Army Engineer Research and Development Center Cold Regions Research and Engineering Laboratory.

Environmental Documentation

A decision document has been prepared for this action after all comments received were evaluated. The decision document is available through Headquarters, U.S. Army Corps of Engineers, Operations and Regulatory Community of Practice, 441 G Street, NW, Washington, DC 20314-1000.

Authority

The NWPL is utilized in conducting wetland delineations under the authority of Section 404 of the Clean Water Act (33 U.S.C. 1344) and section 10 of the Rivers and Harbors Act of 1899 (33 U.S.C. 401 et seq.) and wetland determinations under the authority of the Food Security Act of 1985 (16 U.S.C. 3801 et seq.). The Corps has responsibility for issuing this update pursuant to the 2006 MOA.

Approved by,

Thomas P. Smith,
Chief, Operations and Regulatory Division.

[FR Doc. 2024-02903 Filed 2-12-24; 8:45 am]

BILLING CODE 3720-58-P